DEPARTMENT OF TRANSPORTATION

Coast Guard

33 CFR Part 117

[CGD07-01-035]

Drawbridge Operation Regulations; Brooks Memorial (S.E. 17th Street) Bridge Atlantic Intracoastal Waterway, Ft. Lauderdale, FL

AGENCY: Coast Guard, DOT.

ACTION: Notice of temporary deviation from regulations.

SUMMARY: The Commander, Seventh Coast Guard District, has approved a temporary deviation from the regulations governing the operation of the Brooks Memorial (S.E. 17th Street) bridge across the Atlantic Intracoastal Waterway, mile 1065.9, Ft. Lauderdale, Broward County, Florida. This deviation allows the drawbridge owner or operator to not open the bridge from April 30 to May 9, 2001 with scheduled single leaf openings on May 5 and 6, 2001. This temporary deviation is required to allow the bridge owner to safely conduct repairs to the drawbridge.

DATES: This deviation is effective from April 30 to May 9, 2001.

FOR FURTHER INFORMATION CONTACT: Project Officer, Seventh Coast Guard District, Bridge Branch at (305) 415-6743.

SUPPLEMENTARY INFORMATION: The Brooks Memorial (S.E. 17th Street) bridge across the Atlantic Intracoastal Waterway at Ft. Lauderdale, Florida, has a horizontal clearance of 48 feet between the fender and the bridge span. On April 5, 2001, the Florida Department of Transportation, requested a deviation from the current operating regulation in 33 CFR 117.261(hh) which requires the drawbridge to open on signal; except that from 7 a.m. to 7 p.m. the draw need open only on the hour and half-hour. This temporary deviation was requested to allow emergency repairs to the drawbridge.

The District Commander has granted a temporary deviation from the operating requirements listed in 33 CFR 117.261 (hh) for the purpose of conducting repairs to the drawbridge. Under this deviation, the Brooks Memorial (Southeast 17th Street) drawbridge need not open for navigation from 6 a.m. on April 30, to 6 a.m. on May 9, 2001, except that the drawbridge will open on the hour from 7 a.m. to 8 p.m. on May 5 and 6, 2001. The deviation is effective until May 9, 2001.

Dated: April 27, 2001.
Greg E. Shapley,
Chief, Bridge Administration, Seventh Coast Guard District.

[FR Doc. 01-11496 Filed 5-7-01; 8:45 am]

BILLING CODE 4910-15-P